DEPARTMENT OF ENERGY

Federal Energy Regulatory Commission

[Project No. 13432-002]

Lake Clementine Hydro, LLC; Notice of Successive Preliminary Permit Application Accepted for Filing and Soliciting Comments, Motions To Intervene, and Competing Applications

On October 2, 2012, Lake Clementine Hydro, LLC (Lake Clementine Hydro) filed an application for a successive preliminary permit, pursuant to section 4(f) of the Federal Power Act (FPA). Lake Clementine Hydro proposes to study the feasibility of the Lake Clementine Small Hydroelectric Project to be located at the U.S. Corps of Engineer's North Fork Dam on the North Fork of the American River, near the City of Auburn, Placer County, California. The sole purpose of a preliminary permit, if issued, is to grant the permit holder priority to file a license application during the permit term. A preliminary permit does not authorize the permit holder to perform any land-disturbing activities or otherwise enter upon lands or waters owned by others without the owners' express permission.

By harnessing the water that now flows over the spillway of the North Fork Dam, Lake Clementine Hydro plans to install two 7.5 megawatt (MW) generation units, for a total installed capacity of 15 MW and an estimated annual generation of 42.0 gigawatt-hours. The applicant plans to study three alternative designs for the project.

Applicant Contact: Mr. Magnus Johannesson, America Renewables, LLC, 46-E Peninsula Center, Palos Verdes Estates, California, 90274; phone: (310) 699-6400.

FERC Contact: Jim Fargo at james.fargo@ferc.gov; phone: (202) 502-6095.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street NE., Washington, DC 20426.

More information about this project, including a copy of the application, can be viewed or printed on the “eLibrary” link of Commission's Web site at http://www.ferc.gov/docs-filing/elibrary.asp. Enter the docket number (P-13432) in the docket number field to access the document. For assistance, contact FERC Online Support.

Dated: October 10, 2012.
Kimberly D. Bose,
Secretary.

[FR Doc. 2012-25398 Filed 10-15-12; 8:45 am]

BILLING CODE 6717-01-P